DEPARTMENT OF TRANSPORTATION

Federal Aviation Administration

14 CFR Part 95

[Docket No. 31426; Amdt. No. 565]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective 0901 UTC, May 19, 2022.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29, Room 104, Oklahoma City, OK 73125. Telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on April 15, 2022.
Thomas J. Nichols,
Manager, Aviation Safety, Flight Standards Service, Standards Section, Flight Procedures & Airspace Group, Flight Technologies and Procedures Division.

Adoption of the Amendment

Accordingly, pursuant to the authority delegated to me by the Administrator, part 95 of the Federal Aviation Regulations (14 CFR part 95) is amended as follows effective at 0901 UTC, June 03, 2010.

PART 95—IFR ALTITUDES

1. The authority citation for part 95 continues to read as follows:

Authority: 49 U.S.C. 106(g), 40103, 40113 and 14 CFR 11.49(b)(2).

2. Part 95 is amended to read as follows:

Revisions to IFR Altitudes & Changeover Point
[Amendment 565 effective date May 19, 2022]
From | To | MEA | MAA
§ 95.3000 Low Altitude RNAV Routes
§ 95.3208 RNAV Route T208 Is Amended by Adding
SIROC, GA WP | SAHND, FL WP | 1800 | 17500
SAHND, FL WP | FOXAM, FL WP | 1800 | 17500
Is Amended To Delete
WALEE, FL WP | MMKAY, FL WP | 2000 | 17500
MMKAY, FL WP | FOXAM, FL WP | 1800 | 17500
§ 95.3218 RNAV Route T218 Is Amended by Adding
DLMAR, PA WP | LAAYK, PA FIX | *4900 | 17500
*4700—MCA LAAYK, PA FIX, W BND
Is Amended To Delete
STONYFORK, PA VOR/DME | LAAYK, PA FIX | 4200 | 17500
§ 95.3370 RNAV Route T370 Is Added To Read
BURBN, TX WP | ZUMKI, TX FIX | *3000 | 17500
*3700—MCA ZUMKI, TX FIX, E BND
ZUMKI, TX FIX | RRORY, TX WP | 4000 | 17500
RRORY, TX WP | RAKOC, TX FIX | 2400 | 17500
RAKOC, TX FIX | TASEY, TX WP | 2300 | 17500
TASEY, TX WP | SLOTH, TX WP | 2000 | 17500
SLOTH, TX WP | LOCUS, AR FIX | 2000 | 17500
LOCUS, AR FIX | HAMPT, AR FIX | 1900 | 17500
HAMPT, AR FIX | RICKG, AR WP | 2000 | 17500
RICKG, AR WP | EJKSN, MS WP | 1900 | 17500
EJKSN, MS WP | IZAAC, MS WP | 1800 | 17500
IZAAC, MS WP | TOMLN, MS FIX | *2000 | 17500
*2200—MCA TOMLN, MS FIX, E BND
TOMLN, MS FIX | CLOUT, MS FIX | 2500 | 17500
CLOUT, MS FIX | SKNRR, MS WP | 2000 | 17500
SKNRR, MS WP | MINIM, AL FIX | 2000 | 17500
MINIM, AL FIX | BESOM, AL FIX | 2300 | 17500
BESOM, AL FIX | NESTS, AL WP | *2500 | 17500
*2000—MOCA
NESTS, AL WP | VLKNN, AL WP | 2500 | 17500
§ 95.3398 RNAV Route T398 Is Added To Read
SLOTH, TX WP | MUFRE, AR FIX | 2000 | 17500
MUFRE, AR FIX | CANEY, AR FIX | 2300 | 17500
CANEY, AR FIX | LITTR, AR WP | 2200 | 17500
LITTR, AR WP | ATERS, AR FIX | 2000 | 17500
ATERS, AR FIX | DRAST, AR FIX | 1900 | 17500
DRAST, AR FIX | EMEEY, AR WP | 2000 | 17500
EMEEY, AR WP | WSTON, MS FIX | 2100 | 17500
WSTON, MS FIX | YUGPU, MS FIX | 2000 | 17500
YUGPU, MS FIX | GOINS, MS WP | 2300 | 17500
GOINS, MS WP | SULLY, MS FIX | 2400 | 17500
SULLY, MS FIX | KERMI, MS FIX | 2500 | 17500
KERMI, MS FIX | AYOTE, AL FIX | 2700 | 17500
AYOTE, AL FIX | HAGIE, AL WP | *2600 | 17500
*2100—MOCA
HAGIE, AL WP | MARZZ, AL WP | 2500 | 17500
MARZZ, AL WP | FILUN, AL WP | 3000 | 17500
FILUN, AL WP | COMAR, AL FIX | 4100 | 17500
COMAR, AL FIX | JILIS, GA WP | 4600 | 17500
JILIS, GA WP | CRAND, GA FIX | *3000 | 17500
*4900—MCA CRAND, GA FIX, E BND
CRAND, GA FIX | MADOL, GA FIX | *6300 | 17500
*6400—MCA MADOL, GA FIX, E BND
MADOL, GA FIX | MELLS, GA FIX | 6400 | 17500
MELLS, GA FIX | BALNN, GA WP | *5900 | 17500
*6300—MCA BALNN, GA WP, E BND
BALNN, GA WP | DAYEL, GA FIX | 7500 | 17500
DAYEL, GA FIX | DILLA, GA FIX | 7000 | 17500
DILLA, GA FIX | SUNET, SC FIX | 6700 | 17500
SUNET, SC FIX | RESTS, SC FIX | 5800 | 17500
RESTS, SC FIX | UNMAN, SC FIX | *5700 | 17500
*3400—MCA UNMAN, SC FIX, W BND
UNMAN, SC FIX | BURGG, SC WP | 2900 | 17500
BURGG, SC WP | GAFFE, SC FIX | 2900 | 17500
GAFFE, SC FIX | CRLNA, NC WP | *3400 | 17500
*2900—MOCA
CRLNA, NC WP | LOCAS, NC FIX | 3100 | 17500
LOCAS, NC FIX | ZOPOC, NC FIX | 2500 | 17500
ZOPOC, NC FIX | PEKNN, NC FIX | 2300 | 17500
PEKNN, NC FIX | RELPY, NC FIX | 2400 | 17500
RELPY, NC FIX | GMINI, NC WP | 2400 | 17500
§ 95.3419 RNAV Route T419 Is Added To Read
MAHTY, AR WP | FRNIA, MO WP | 2000 | 17500
FRNIA, MO WP | SNOWD, MO FIX | 2100 | 17500
SNOWD, MO FIX | MESSR, KY WP | 2000 | 17500
MESSR, KY WP | ROOKE, KY WP | 2200 | 17500
ROOKE, KY WP | WESON, KY FIX | 2500 | 17500
WESON, KY FIX | TERGE, IN WP | 2000 | 17500
§ 95.4000 High Altitude RNAV Routes
§ 95.4019 RNAV Route Q19 Is Amended by Adding
BULZI, FL WP | WYATT, GA FIX | *18000 | 45000
*18000—GNSS MEA
*DME/DME/IRU MEA
WYATT, GA FIX | GOONS, GA FIX | *18000 | 45000
*18000—GNSS MEA
*DME/DME/IRU MEA
GOONS, GA FIX | LAYIN, AL WP | *18000 | 45000
*18000—GNSS MEA
*DME/DME/IRU MEA
LAYIN, AL WP | TOJXE, AL WP | *18000 | 45000
*18000—GNSS MEA
*DME/DME/IRU MEA
TOJXE, AL WP | HITMN, TN WP | *18000 | 45000
*18000—GNSS MEA
*DME/DME/IRU MEA
HITMN, TN WP | PLESS, IL FIX | *18000 | 45000
*18000—GNSS MEA
*DME/DME/IRU MEA
Is Amended To Delete
NASHVILLE, TN VORTAC | PLESS, IL FIX | *18000 | 45000
*GNSS REQUIRED
§ 95.4030 RNAV Route Q30 Is Amended by Adding
IZAAC, MS WP | SKNRR, MS WP | *18000 | 45000
*18000—GNSS MEA
*DME/DME/IRU MEA
SKNRR, MS WP | VLKNN, AL WP | *18000 | 45000
*18000—GNSS MEA
*DME/DME/IRU MEA
Is Amended To Delete
SIDON, MS VORTAC | VULCAN, AL VORTAC | *18000 | 45000
*GNSS REQUIRED
§ 95.4065 RNAV Route Q65 Is Amended by Adding
ENEME, GA WP | KERLY, GA WP | *18000 | 45000
*18000—GNSS MEA
*DME/DME/IRU MEA
KERLY, GA WP | DAREE, GA WP | *18000 | 45000
*18000—GNSS MEA
*DME/DME/IRU MEA
OCASE, KY WP | RINTE, OH WP | *18000 | 45000
*18000—GNSS MEA
*DME/DME/IRU MEA
Is Amended To Delete
ENEME, GA WP | JEFOI, GA WP | *18000 | 45000
*18000—GNSS MEA
*DME/DME/IRU MEA
JEFOI, GA WP | TRASY, GA WP | *18000 | 45000
*18000—GNSS MEA
*DME/DME/IRU MEA
TRASY, GA WP | CESKI, GA WP | *18000 | 45000
*18000—GNSS MEA
*DME/DME/IRU MEA
CESKI, GA WP | DAREE, GA WP | *18000 | 45000
*18000—GNSS MEA
*DME/DME/IRU MEA
OCASE, KY WP | ROSEWOOD, OH VORTAC | *18000 | 45000
*18000—GNSS MEA
*DME/DME/IRU MEA
§ 95.4077 RNAV Route Q77 Is Amended by Adding
WIGVO, GA WP | MELKR, SC WP | *18000 | 45000
*18000—GNSS MEA
*DME/DME/IRU MEA
MELKR, SC WP | HRTWL, SC WP | *18000 | 45000
*18000—GNSS MEA
*DME/DME/IRU MEA
§ 95.4079 RNAV Route Q79 Is Amended by Adding
IISLY, GA WP | ZPLEN, GA WP | *18000 | 45000
*18000—GNSS MEA
*DME/DME/IRU MEA
ZPLEN, GA WP | THRSR, GA WP | *18000 | 45000
*18000—GNSS MEA
*DME/DME/IRU MEA
THRSR, GA WP | KAILL, GA WP | *18000 | 45000
*18000—GNSS MEA
*DME/DME/IRU MEA
KAILL, GA WP | WUDEE, GA FIX | *18000 | 45000
*18000—GNSS MEA
*DME/DME/IRU MEA
WUDEE, GA FIX | RESPE, TN FIX | *18000 | 45000
*18000—GNSS MEA
*DME/DME/IRU MEA
RESPE, TN FIX | SWAPP, TN FIX | *18000 | 45000
*18000—GNSS MEA
*DME/DME/IRU MEA
SWAPP, TN FIX | LOUISVILLE, KY VORTAC | *18000 | 45000
*18000—GNSS MEA
*DME/DME/IRU MEA
Is Amended To Delete
IISLY, GA WP | YUESS, GA WP | *18000 | 45000
*GNSS REQUIRED
YUESS, GA WP | ATLANTA, GA VORTAC | *18000 | 45000
*GNSS REQUIRED
§ 95.4089 RNAV Route Q89 Is Amended by Adding
YANTI, GA WP | HESPI, GA WP | *18000 | 45000
*18000—GNSS MEA
*DME/DME/IRU MEA
HESPI, GA WP | CULTO, GA WP | *18000 | 45000
*18000—GNSS MEA
*DME/DME/IRU MEA
CULTO, GA | WP SMTTH, TN WP | *18000 | 45000
*18000—GNSS MEA
*DME/DME/IRU MEA
Is Amended To Delete
YANTI, GA WP | ATLANTA, GA VORTAC | *18000 | 45000
*18000—GNSS MEA
*DME/DME/IRU MEA
§ 95.4093 RNAV Route Q93 Is Amended by Adding
QUIWE, SC WP | JEPEX, SC WP | *18000 | 45000
*18000—GNSS MEA
*DME/DME/IRU MEA
JEPEX, SC WP | BENBY, NC WP | *18000 | 45000
*18000—GNSS MEA
*DME/DME/IRU MEA
BENBY, NC WP | DOOGE, VA WP | *18000 | 45000
*18000—GNSS MEA
*DME/DME/IRU MEA
DOOGE, VA WP | HAPKI, KY WP | *18000 | 45000
*18000—GNSS MEA
*DME/DME/IRU MEA
HAPKI, KY WP | TONIO, KY WP | *18000 | 45000
*18000—GNSS MEA
*DME/DME/IRU MEA
TONIO, KY WP | OCASE, KY WP | *18000 | 45000
*18000—GNSS MEA
*DME/DME/IRU MEA
OCASE, KY WP | HEVAN, IN WP | *18000 | 45000
*18000—GNSS MEA
*DME/DME/IRU MEA
§ 95.4103 RNAV Route Q103 Is Amended by Adding
SLOJO, SC WP | DANCO, VA WP | *18000 | 45000
*18000—GNSS MEA
*DME/DME/IRU MEA
DANCO, VA WP | ASBUR, WV WP | *18000 | 45000
*18000—GNSS MEA
*DME/DME/IRU MEA
Is Amended To Delete
SLOJO, SC WP | PULASKI, VA VORTAC | *18000 | *45000
*18000—GNSS MEA
*DME/DME/IRU MEA
PULASKI, VA VORTAC | ASBUR, WV WP | *18000 | 45000
*18000—GNSS MEA
*DME/DME/IRU MEA
§ 95.4116 RNAV Route Q116 Is Amended by Adding
SPRINGFIELD, MO VORTAC | ZAVEL, AR WP | *18000 | 45000
*18000—GNSS MEA
*DME/DME/IRU MEA
ZAVEL, AR WP | LUKKY, AR WP | *18000 | 45000
*18000—GNSS MEA
*DME/DME/IRU MEA
LUKKY, AR WP | MEMFS, TN WP | *18000 | 45000
*18000—GNSS MEA
*DME/DME/IRU MEA
MEMFS, TN WP | GOOGY, AL WP | *18000 | 45000
*18000—GNSS MEA
*DME/DME/IRU MEA
GOOGY, AL WP | LOBBS, AL FIX | *18000 | 45000
*18000—GNSS MEA
*DME/DME/IRU MEA
LOBBS, AL FIX | VLKNN, AL WP | *18000 | 45000
*18000—GNSS MEA
*DME/DME/IRU MEA
VLKNN, AL WP | DEEDA, GA WP | *18000 | 45000
*18000—GNSS MEA
*DME/DME/IRU MEA
Is Amended To Delete
VULCAN, AL VORTAC | DEEDA, GA WP | *18000 | 45000
*18000—GNSS MEA
*DME/DME/IRU MEA
§ 95.4118 RNAV Route Q118 Is Amended by Adding
BONNT, IN WP | HEVAN, IN WP | *18000 | 45000
*18000—GNSS MEA
*DME/DME/IRU MEA
KAILL, GA WP | THRSR, GA WP | *18000 | 45000
*18000—GNSS MEA
*DME/DME/IRU MEA
THRSR, GA WP | JOHNN, GA WP | *18000 | 45000
*18000—GNSS MEA
*DME/DME/IRU MEA
Is Amended To Delete
MARION, IN VOR/DME | HEVAN, IN WP | *18000 | 45000
*GNSS REQUIRED
KAILL, GA VORTAC | ATLANTA, GA VORTAC | *18000 | 45000
*GNSS REQUIRED
ATLANTA, GA VORTAC | JOHNN, GA WP | *18000 | 45000
*GNSS REQUIRED
§ 95.4139 RNAV Route Q139 Is Added To Read
MGMRY, AL WP | VLKNN, AL WP | *18000 | 45000
*18000—GNSS MEA
*DME/DME/IRU MEA
VLKNN, AL WP | SALMS, TN FIX | *18000 | 45000
*18000—GNSS MEA
*DME/DME/IRU MEA
SALMS, TN FIX | HITMN, TN WP | *18000 | 45000
*18000—GNSS MEA
*DME/DME/IRU MEA
HITMN, TN WP | LOUISVILLE, KY VORTAC | *18000 | 45000
*18000—GNSS MEA
*DME/DME/IRU MEA
LOUISVILLE, KY VORTAC | GBEES, IN FIX | *18000 | 45000
*18000—GNSS MEA
*DME/DME/IRU MEA
GBEES, IN FIX | HICKI, IN FIX | *18000 | 45000
*18000—GNSS MEA
*DME/DME/IRU MEA
HICKI, IN FIX | CREEP, OH FIX | *18000 | 45000
*18000—GNSS MEA
*DME/DME/IRU MEA
CREEP, OH FIX | RINTE, OH WP | *18000 | 45000
*18000—GNSS MEA
*DME/DME/IRU MEA
§ 95.4140 RNAV Route Q140 Is Amended by Adding
KODEY, NY FIX | ARRKK, NY WP | *18000 | 45000
*18000—GNSS MEA
*DME/DME/IRU MEA
ARRKK, NY WP | RODYY, NY WP | *18000 | 45000
*18000—GNSS MEA
*DME/DME/IRU MEA
Is Amended To Delete
KODEY, NY FIX | ARKKK, NY WP | *18000 | 45000
*GNSS REQUIRED
ARKKK, NY WP | RODYY, NY WP | *18000 | 45000
*GNSS REQUIRED
§ 95.4184 RNAV Route Q184 Is Added To Read
RANGER, TX VORTAC | DOBIS, LA WP | *18000 | 45000
*18000—GNSS MEA
*DME/DME/IRU MEA
DOBIS, LA WP | BERKE, LA FIX | *18000 | 45000
*18000—GNSS MEA
*DME/DME/IRU MEA
BERKE, LA FIX | MIXIE, LA FIX | *18000 | 45000
*18000—GNSS MEA
*DME/DME/IRU MEA
MIXIE, LA FIX | STAGE, LA FIX | *18000 | 45000
*18000—GNSS MEA
*DME/DME/IRU MEA
STAGE, LA FIX | KAMEN, LA FIX | *18000 | 45000
*18000—GNSS MEA
*DME/DME/IRU MEA
KAMEN, LA FIX | SARKK, MS WP | *18000 | 45000
*18000—GNSS MEA
*DME/DME/IRU MEA
SARKK, MS WP | MERDN, MS WP | *18000 | 45000
*18000—GNSS MEA
*DME/DME/IRU MEA
MERDN, MS WP | KWANE, MS WP | *18000 | 45000
*18000—GNSS MEA
*DME/DME/IRU MEA
KWANE, MS WP | ARNNY, AL WP | *18000 | 45000
*18000—GNSS MEA
*DME/DME/IRU MEA
§ 95.4812 RNAV Route Q812 Is Amended by Adding
LOXXE, NY FIX | ARRKK, NY WP | *18000 | 45000
*18000—GNSS MEA
*DME/DME/IRU MEA
ARRKK, NY WP | STOMP, NY FIX | *18000 | 45000
*18000—GNSS MEA
*DME/DME/IRU MEA
Is Amended To Delete
LOXXE, NY FIX | ARKKK, NY WP | *18000 | 45000
*GNSS REQUIRED
ARKKK, NY WP | STOMP, NY FIX | *18000 | 45000
*GNSS REQUIRED

From | To | MEA
§ 95.6001 Victor Routes-U.S
§ 95.6081 VOR Federal Airway V81 Is Amended To Read in Part
PUEBLO, CO VORTAC | *BLACK FOREST, CO VOR/DME | 9500
*10000—MCA BLACK FOREST, CO VOR/DME, NW BND
§ 95.6120 VOR Federal Airway V120 Is Amended To Read in Part
SIOUX FALLS, SD VORTAC | BILOO, IA FIX | *5000
*3600—MOCA
§ 95.6165 VOR Federal Airway V165 Is Amended To Read in Part
VALEY, CA FIX | *SAUGS, CA FIX | 6200
*6700—MCA SAUGS, CA FIX, NW BND
NEWBERG, OR VOR/DME | PITER, OR FIX | 4400
§ 95.6247 VOR Federal Airway V247 Is Amended To Read in Part
BAXTA, MT FIX | WAUTS, MT FIX | *13000
*11200—MOCA
WAUTS, MT FIX | HELENA, MT VORTAC
W BND |  | 9600
E BND |  | 13000

From | To | MEA | MAA
§ 95.7001 Jet Routes
§ 95.7093 Jet Route J93 Is Amended To Read in Part
U.S. MEXICAN BORDER | JULIAN, CA VORTAC | 18000 | 37000

Airway Segment: From | Airway Segment: To | Changeover Points: Distance | Changeover Points: From
§ 95.8005 Jet Routes Changeover Points J54 Is Amended To Add Changeover Point
POCATELLO, ID VOR/DME | CHEROKEE, WY VOR/DME | 95 | POCATELLO.

[FR Doc. 2022-08496 Filed 4-20-22; 8:45 am]

BILLING CODE 4910-13-P